NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173) (Virtual).

Date and Time: October 26, 2023; 10 a.m.-4:15 p.m.

Place: National Science Foundation, 2415 Eisenhower Avenue, Alexandria, VA 22314 (Virtual)

Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314.

Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

October 26, 2023

10:00 a.m.-10:30 a.m. Welcome, Introductions, Opening Remarks

10:30 a.m.-11:00 a.m. Report of the NSF CEOSE Executive Liaison

11:00 a.m.-12:00 p.m. Presentation: NSF Initiatives to Advance Persons with Disabilities in STEM

12:00 p.m.-12:45 p.m. Lunch

12:45 p.m.-1:00 p.m. Update on Dissemination Activities of the 2021-2022 CEOSE Report

1:00 p.m.-1:30 p.m. Discussion with NSF Leadership

1:30 p.m.-2:45 p.m. Discussion: CEOSE Rural STEM Education Report/Brief

2:45 p.m.-3:00 p.m. Break

3:00 p.m.-4:00 p.m. Reports of the CEOSE AC Liaisons and CEOSE Federal Liaisons

4:00 p.m.-4:15 p.m. Announcements and Final Remarks

Dated: September 12, 2023.
Crystal Robinson,
Committee Management Officer.

[FR Doc. 2023-20069 Filed 9-15-23; 8:45 am]

BILLING CODE 7555-01-P